DEPARTMENT OF COMMERCE

National Oceanic and Atmospheric Administration

[I.D. 031406D]

North Pacific Fishery Management Council; Notice of Public Meetings

AGENCY: National Marine Fisheries Service (NMFS), National Oceanic and Atmospheric Administration (NOAA), Commerce.

ACTION: Meetings of the North Pacific Fishery Management Council and its advisory committees.

SUMMARY: The North Pacific Fishery Management Council (Council) and its advisory committees will hold public meetings April 5-11, 2006 at the Anchorage Hilton Hotel, 500 West Third Avenue, Anchorage, Alaska.

DATES: The Council's Advisory Panel (AP) will begin at 8 a.m., Monday, April 3 and continue through Saturday April 8, 2006. The Scientific and Statistical Committee (SSC) will begin at 8 a.m. on Monday April 3 and continue through Wednesday, April, 5, 2006.

The Council will begin its plenary session at 8 a.m. on Wednesday, April 5, continuing through April 11, 2006. All meetings are open to the public except executive sessions. The Enforcement Committee will meet Tuesday, April 4, from 9 a.m. to 12 p.m. in the Iliamna Room. The Ecosystem Committee will meet Tuesday, April 4, from 1 p.m. to 5 p.m. in the Iliamna Room.

ADDRESSES: Anchorage Hilton Hotel, 500 West Third Avenue, Anchorage, Alaska.

Council address: North Pacific Fishery Management Council, 605 W. 4th Avenue, Suite 306, Anchorage, AK 99501-2252.

FOR FURTHER INFORMATION CONTACT: Council staff, Phone: 907-271-2809.

SUPPLEMENTARY INFORMATION: Council Plenary Session: The agenda for the Council's plenary session will include the following issues. The Council may take appropriate action on any of the issues identified.

1. Reports

Executive Director's Report

NMFS Management Report

U.S. Coast Guard Report

NMFS Enforcement Report

Alaska Department of Fish & Game (ADF&G) Report (includes Board of Fisheries (BOF) Adak cod action)

U.S. Fish & Wildlife Service Report

Protected Species Report

Pacific Northwest Crab Industry Advisory Committee

2. Community Development Communities (CDQs): Review Governor's CDQ allcation recommendations: Status report on CDQ cost recovery program; Initial review/final action CDQ community eligibility regulatory amendment; Status report on Amendment 71.

3. Improved Retention/Improved Utilization (IR/IU): Final action on Amendment 80; Discuss alternatives for Maximum Retainable Amounts (MRA) adjustments.

4. Bering Sea Aleutian Island (BSAI) Pacific Cod Allocations: Final action on Amendment 85.

5. BSAI Trawl Catcher Vessel (CV) eligibility: review discussion paper and take action as necessary.

6. Gulf of Alaska (GOA) Groundfish Rationalization: Review discussion paper on skipper/crew provisions; review Critical Path analysis; review other information and revise alternatives/options as appropriate.

7. Halibut Guideline Harvest Levels (GHL): Final action on Halibut GHL regulations; Receive Halibut Charter Stakeholder Committee report and take action as necessary.

8. Groundfish Management: Initial review of Environmental Assessment/Regulatory Impact Review to defer management of GOA Dark Groundfish; Review Experimental Fishery Permit for longline targeting of silvergrey rockfish; Progress report on BSAI Salmon Bycatch Amendment Package B; and Salmon Bycatch research workshop (SSC only).

9. Crab Management: Crab Overfishing Definitions update. (SSC only)

10. Scallop Management: Review and approve Scallop Stock Assessment Fishery Evaluation (SAFE).

11. Ecosystem Based Management: Receive Committee report and take action as necessary.

12. Research Priorities: Review and approve.

13. Staff Tasking: Review Committees and tasking, refine Vessel Management System (VMS) alternatives.

14. Other Business

The SSC agenda will include the following issues:

1. Salmon Research Workshop

2. Groundfish Management

3. Crab Overfishing

4. Scallop SAFE report

5. Research Priorities

The Advisory Panel will address the same agenda issues as the Council.

Special Accommodations

These meetings are physically accessible to people with disabilities. Requests for sign language interpretation or other auxiliary aids should be directed to Gail Bendixen at 907-271-2809 at least 7 working days prior to the meeting date.

Dated: March 14, 2006.
Tracey L. Thompson,
Acting Director, Office of Sustainable Fisheries, National Marine Fisheries Service.

[FR Doc. E6-3913 Filed 3-17-06; 8:45 am]

BILLING CODE 3510-22-S